SURFACE TRANSPORTATION BOARD

49 CFR Chapter X

[Docket No. EP 738]

Regulatory Reform Task Force

AGENCY: Surface Transportation Board.

ACTION: Announcement of Regulatory Reform Task Force listening session.

SUMMARY: Notice is hereby given of a listening session for the Regulatory Reform Task Force (RRTF).

DATES: The listening session will be held on Tuesday, July 25, 2017, at 10 a.m. E.D.T.

ADDRESSES: The listening session will be held in the Hearing Room on the first floor of the Board's headquarters at 395 E Street SW., Washington, DC 20423.

FOR FURTHER INFORMATION CONTACT: Rachel D. Campbell (202) 245-0357; Rachel.Campbell@stb.gov. [Assistance for the hearing impaired is available through the Federal Information Relay Service (FIRS) at: (800) 877-8339].

SUPPLEMENTARY INFORMATION: The RRTF was established to comply with the spirit of Exec. Order No. 13,777, 82 FR 12285 (Mar. 1, 2017), and to move forward ongoing agency regulatory and process review initiatives. The RRTF's mission is to identify rules and practices that are burdensome, unnecessary, or outdated, and to recommend how they should be addressed. On May 25, 2017, the RRFT submitted its first status report, which is available for viewing on the Board's Web site at https://www.stb.gov/stb/about/RRTF.html. As detailed in that memo, the RRTF has identified some initial actions to pursue. However, given the direct impact of the Board's regulations upon its stakeholders, the RRTF believes that reviewing its regulations is best conducted with input from its stakeholders.

For that reason, the RRTF will hold a listening session that will be open to the public. Members of the RRTF will be present at the listening session, which will be on the record with a transcript prepared. The RRTF will release the transcript following the listening session. Interested persons not able to attend may provide written comments by July 25, 2017. Written comments should reference Docket No. EP 738, and should be addressed to: Regulatory Reform Task Force, Surface Transportation Board, 395 E Street SW., Washington, DC 20423-0001. Submitted comments will become part of the record.

Decided: June 20, 2017.
By the Board, Rachel D. Campbell, Director, Office of Proceedings.
Brendetta S. Jones,
Clearance Clerk.

[FR Doc. 2017-13131 Filed 6-22-17; 8:45 am]

BILLING CODE 4915-01-P